DEPARTMENT OF AGRICULTURE

Forest Service

Noxious Weed Project; Wasatch-Cache National Forest, Box Elder, Cache, Davis, Duchesne, Morgan, Rich, Salt lake, Summit, Tooele, Wasatch, Weber Counties, Utah and Uinta County, WY

AGENCY: Forest Service, USDA.

ACTION: Notice of intent to prepare environmental impact statement.

SUMMARY: The Forest Supervisor of the Wasatch-Cache National Forest (WCNF) gives notice of the agency's intent to prepare an environmental impact statement on a proposal to eradicate (elimination), control (reducing the population over time), and contain (preventing the population from spreading) known infestations and future potential invasions of noxious weed populations on the Forest.

DATES: Comments concerning the scope of the analysis must be received in writing by November 23, 2004. A draft environmental impact statement is expected to be published in April 2006, with public comment on the draft material requested for a period of 45 days, and completion of a final environmental impact statement is expected in October, 2006.

ADDRESSES: Send written comments to. Wasatch-Cache National Forest, 8236 Federal Building, 125 S. State St., Salt Lake City, Utach 84138, ATTN: Noxious Weeds.

FOR FURTHER INFORMATION CONTACT: Mike Duncan, Team Leader, (801) 236-3415.

SUPPLEMENTARY INFORMATION:

Purpose and Need for Action

The purpose of this proposal is to move forward in achieving the desired conditions, goals, and objectives of the 2003 Wasatch-Cache National Forest Revised Forest Plan. Specifically the purpose of this proposal is to eliminate new invaders (weed species not previously reported in an area) before they become established, prevent or limit the spread of established weeds into areas containing little or no infestation while meeting multiple use objectives, and contain and reduce known and potential weed seed sources throughout the WCNF.

The need for this proposal is evident by reviewing maps of known infestations of noxious weeds within the Wasatch-Cache National Forest. The number of infestations and species is growing yearly. Results of uncontrolled weed spread are well documented. Without treatment, weeds increase about 14% a year under national conditions. The spread of weeds can primarily be attributed to human activities associated with vehicles and roads, trails, contaminated livestock feed, contaminated seed, and ineffective revegetation practices on disturbed lands. Wind, water, birds, wildlife, and livestock also contribute to week spread. According to the recent scientific assessment of the Interior Columbia River Basin, invading weeds can alter ecosystem processes, including productivity, decomposition, hydrology, nutrient cycling, and natural disturbance patterns such as frequency and intensity of wild fires. Changing these processes can lead to displacement of native plant species, eventually impacting wildlife and plant habitat, recreational opportunities, natural hydrologic processes, and scenic beauty.

Proposed Action

A number of steps would be followed under this Proposed Action to determine and implement the most appropriate treatment method for each weed infestation site. They include the following: detection of the weed, prioritization of the site for weed treatment, determination if sensitive environmental receptors are present, determination of the appropriate treatment method for the weed, and monitoring the treatment/restoration site to determine if follow-up or alternative treatment is warranted.

The following priorities will be followed for treating sites. Priority I—Potential or New Invaders: Noxious weeds that are known from only a few, small sites (less than about 10) on the Forest would be highest priority for treatment. These are species for whom eradication is most likely, and whose elimination is likely to be most cost-effective in the long term. Priority II—Satellite Infestations: Small, satellite infestations, particularly on the edges of the local range of a noxious weed species, would be next highest priority for treatment. Treating these satellite infestations is likely to be most effective in halting the spread of noxious weeds into weed-free areas. Priority III—Established Infestations: Relatively large established populations are managed by a containment strategy. Treatment efforts may focus on working in from the edges, or treating specific areas identified as a particular seed/plant spreading source (ex: trailhead).

Treatment practices available for use in eradicating, controlling, and/or containing noxious, invasive, and non-native weeds include mechanical, biological, controlled grazing, chemical (aerial and ground-based), and combinations of these treatments. Selection of the most appropriate treatment practice depends on numerous factors, including the risk of weed expansion, weed species biology, time of year, environmental setting, soil type, and management objective.

Responsible Official

The Responsible Official is Thomas L. Tidwell, Forest Supervisor, Wasatch-Cache National Forest, 8236 Federal Building, 125 South State Street, Salt Lake City, UT 84138.

Nature of Decision to Be Made

The decision to be made is whether or not to treat noxious weeds, and if so, determining the priority for treating populations and the appropriate treatment option for different weed species.

Scoping Process

The Forest Service invites comments and suggestions on the scope of the analysis to be included in the Draft Environmental Impact Statement (DEIS). In addition, the Forest Service gives notice that it is beginning a full environmental analysis and decision-making process for this proposal so that interested or affected people may know how they can participate in the environmental analysis and contribute to the final decision. This notice of intent initiates the scoping process which guides the development of the environmental impact statement. The Forest Service welcomes any public comments on the proposal.

Early Notice of Importance of Public Participation in Subsequent Environmental Review

A draft environmental impact statement will be prepared for comment. The comment period on the draft environment impact statement will be 45 days from the date the Environmental Protection Agency's notice of availability appears in the Federal Register. It is very important that those interested in this proposed action participate at that time. To be the most helpful, comments on the draft environmental impact statement should be as specific as possible and may address the adequacy of the statement or the merits of the alternatives discussed.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inv. v. Harris, 490 F. Supp. 1334, 1338 (E.D. Wis. 1980). Because of these court rulings, it is very important that those interested in this proposed action participate by the close of the 45-day comment period so that substantive comments and objections are made available to the Forest Service at a time when it can meaningfully consider them and consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.) Comments received, including the names and addresses of those who comment, will be considered part of the public record on this proposal and will be available for public inspection.

(Authority: 40 CFR 1501.7 and 1508.22; Forest Service Handbook 1909.15, Section 21)

Dated: October 27, 2004.
Faye L. Krueger,
Deputy Forest Supervisor.

[FR Doc. 04-24507 Filed 11-2-04; 8:45 am]

BILLING CODE 3410-11-M